DEPARTMENT OF ENERGY

Federal Energy Regulatory Commission

[Docket No. EL09-66-000]

Cross Texas Transmission, LLC; Sharyland Utilities, L.P., E.ON Climate & Renewables North America Inc., Eurus Energy America Corporation, Iberdrola Renewables, Inc., Pattern Renewables LP; Notice of Petition of Declaratory Filing

August 20, 2009.

Take notice that on August 7, 2009, Cross Texas LLC, Sharyland Utilities, L.P., E.ON Climate & Renewables North America Inc., Eurus Energy America Corporation, Iberdrola Renewables, Inc., and Pattern Renewables LP, filed an application for petition for declaratory order, requesting the Commission to issue a declaratory order disclaiming jurisdiction over, (1) proposed transmission lines and facilities approved by the Public Utility Commission of Texas that will deliver electric energy to the Electric Reliability Council of Texas grid from two Competitive Renewable Energy Zones (CREZs), Panhandle A and Panhandle B, located solely within the State of Texas in the Texas Panhandle (CREZ Panhandle Transmission Lines); (2) transmission service over the CREZ Panhandle Transmission Lines; and (3) sales of energy over the CREZ Panhandle Transmission Lines.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 8, 2009.

Kimberly D. Bose,
Secretary.

[FR Doc. E9-20651 Filed 8-26-09; 8:45 am]

BILLING CODE 6717-01-P